DEPARTMENT OF COMMERCE

National Oceanic and Atmospheric Administration

50 CFR Parts 600 and 660

[Docket No. 991223347-9347; I.D. 032700D]

Fisheries off West Coast States and in the Western Pacific; Pacific Coast Groundfish Fishery; Trip Limit Adjustments

AGENCY: National Marine Fisheries Service (NMFS), National Oceanic and Atmospheric Administration (NOAA), Commerce.

ACTION: Fishing restrictions; request for comments.

SUMMARY: NMFS announces changes to trip limits in the Pacific Coast groundfish open access fishery for vessels using pink shrimp trawl gear, and clarifies restrictions for other exempted trawl gears. These actions, which are authorized by the Pacific Coast groundfish fishery management plan (FMP), are intended to help the fisheries achieve optimum yield (OY).

DATES: Effective 0001 hours local time April 1, 2000, unless modified, superseded or rescinded, until the effective date of the 2001 annual specifications and management measures for the Pacific Coast groundfish fishery, which will be published in the Federal Register. Comments on this rule will be accepted through April 20, 2000.

ADDRESSES: Submit comments to William Stelle, Jr., Administrator, Northwest Region (Regional Administrator), NMFS, 7600 Sand Point Way NE., BIN C15700, Bldg. 1, Seattle, WA 98115-0070; or Rodney McInnis, Acting Administrator, Southwest Region, NMFS, 501 West Ocean Blvd., Suite 4200, Long Beach, CA 90802-4213. Comments will not be accepted if submitted via email or the Internet.

FOR FURTHER INFORMATION CONTACT: Katherine King or Yvonne deReynier, Northwest Region, NMFS, 206-526-6140.

SUPPLEMENTARY INFORMATION: The following changes to current management measures were recommended by the Pacific Fishery Management Council (Council), in consultation with the States of Washington, Oregon, and California, at its March 6-10, 2000, meeting in Sacramento, CA. Pacific coast groundfish landings will be monitored throughout the year, and further adjustments to the trip limits will be made as necessary to stay within the OYs and allocations announced in the annual specifications and management measures for the groundfish fishery, published in the Federal Register at 65 FR 221 (January 4, 2000).

At its November 1999 meeting, the Council recommended the following groundfish limits for a vessel using shrimp trawl gear (an open access exempted trawl gear): 500 lb (227 kg) per day (multiplied by the number of days in the fishing trip), not to exceed 2,000 lb (907 kg) per trip. The Council also announced its intent to review and recommend at its March 2000 meeting any additional sublimits that should apply for the pink shrimp fishery which starts April 1, 2000. The groundfish trip limits are intended to provide for a reasonable level of incidental harvest in the pink shrimp fishery: Trip limits that are too high could encourage targeted fishing for groundfish and trip limits that are too low could result in discarding groundfish that exceed the trip limits. At its March 2000 meeting, the Council recommended maintaining the overall groundfish limits announced in January for the pink shrimp trawl fishery, and added the following sublimits that count toward the overall groundfish limits: for canary rockfish—100 lb (45 kg) in April and 300 lb (136 kg) per month May through October, (the same as for limited entry vessels using small-footrope trawl gear); for lingcod—no retention in April, and 400 lb (181 kg) per month in May through October, the same as for limited entry vessels using small-footrope trawl gear, and with a minimum size limit of 24 inches (61 cm) north of 40°10′ N. lat. and 26 inches (66 cm) south of 40°1010′ N. lat., the same size limits as for open access nontrawl gear; for sablefish, 2,000 lb (907 kg) per month, which is smaller than the open access nontrawl or limited entry trawl cumulative limits for sablefish. These limits are based on landings data for the shrimp fishery, and as consistent as practicable with other limits for the groundfish fishery.

The trip limits are complicated by the fact that many vessels that fish for pink shrimp also participate in other groundfish fisheries. Provisions are added in this document to clarify which limits apply if a vessel participates in both pink shrimp and other groundfish fisheries during the same trip limit period. If a vessel that takes and retains pink shrimp also takes and retains groundfish in either the limited entry or another open access fishery during the same applicable cumulative trip limit period, the vessel may retain the larger of the two limits, but only if the limit(s) for each gear or fishery are not exceeded when operating in that fishery or with that gear. The limits are not additive; the vessel may not retain a separate trip limit for each fishery. Minor housekeeping revisions also are made to clarify which trip limits apply to the other exempted trawl gears.

The Council remains concerned about the amount of canary rockfish, an overfished species, that may be taken incidentally in the pink shrimp fishery and will reconsider this issue at its April meeting.

NMFS Actions

For the reasons stated here, NMFS concurs with the Council's recommendations and announces the following changes to the 2000 annual management measures (65 FR 221, January 4, 2000, as modified). The annual management measures are modified as follows:

In Section IV, paragraphs IV.A.(11), C.(1), the title of Table 5, C.(2), C.(2)(a), and C.(3) are revised to read as follows:

IV. NMFS Actions

* * * * *

A. General Definitions and Provisions

* * * * *

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, and the open access limit is smaller than the limited entry limit, then the open access limit cannot be exceeded and counts toward the limited entry limit. If a vessel has a limited entry permit and uses open access gear, and the open access limit is larger than the limited entry limit, the smaller limited entry limit applies, even if taken entirely with open access gear. Special provisions that apply to a vessel using exempted trawl gear to fish for pink shrimp are found at paragraph C.(3)(d).

* * * * *

C. Trip Limits in the Open Access Fishery

* * * * *

(1) All open access gear. The trip limits, size limits, seasons, and other management measures for open access groundfish gear, except exempted trawl gear engaged in fishing for pink shrimp, are listed in Table 5. The trip limit at 50 CFR 660.323(a)(i) for black rockfish caught with hook-and-line gear also applies. (The black rockfish limit is repeated at paragraph IV.B.(4).) Additional limits for exempted trawl gears are found in paragraphs IV.C.(2) and (3).

* * * * *

“Table 5. 2000 Trip Limits 1/ for All Open Access Gear except Exempted Trawl Gear Engaged in Fishing for Pink Shrimp”.

* * * * *

(2) Groundfish taken with exempted trawl gear by vessels engaged in fishing for spot and ridgeback prawns, California halibut, or sea cucumbers.

(a) Trip limits. The trip limit is 300 lb (136 kg) of groundfish per fishing trip. Limits and closures in Table 5 also apply and are counted toward the 300-lb (136-kg) groundfish limit. In any landing by a vessel engaged in fishing for spot and ridgeback prawns, California halibut, or sea cucumbers with exempted trawl gear, the amount of groundfish landed may not exceed the amount of the target species landed, except that the amount of spiny dogfish (Squalas acanthias) landed may exceed the amount of target species landed. Spiny dogfish are limited by the 300-lb (136-kg) per trip overall groundfish limit. The daily trip limits for sablefish coastwide and thornyheads south of Pt. Conception, and the overall groundfish “per trip” limit may not be multiplied by the number of days of the fishing trip.

* * * * *

(3) Groundfish taken with exempted trawl gear by vessels engaged in fishing for pink shrimp. (a) Starting April 1, 2000, the trip limit is 500 lb (227 kg) of groundfish per day, multiplied by the number of days of the fishing trip, but not to exceed 2,000 lb (907 kg) of groundfish per trip. The following sublimits also apply and are counted toward the overall 500-lb (227 kg) per day and 2,000-lb (907 kg) per trip groundfish limits:

(i) Canary rockfish—

(A) April 1-30, 2000: 100 lb (45 kg) per month

(B) Starting May 1, 2000: 300 lb (136 kg) per month

(ii) Lingcod—

(A) April 1-30, 2000: closed.

(B) Starting May 1, 2000: 400 lb (181 kg) per month, with a minimum size limit (total length) of 24 inches (61 cm) north of 40°10′ N. lat. and 26 inches (66 cm) south of 40°10′ N. lat.

(iii) Sablefish—Starting April 1, 2000: 2,000 lb (907 kg) per month;

(iv) Thornyheads—closed north of Pt. Conception (34°27′ N. lat.)

(b) The trip limits in Table 5 do not apply to groundfish taken with exempted trawl gear by vessels engaged in fishing for pink shrimp.

(c) In any trip in which pink shrimp trawl gear is used, the amount of groundfish landed may not exceed the amount of pink shrimp landed.

(d) Operating in pink shrimp and other fisheries during the same cumulative trip limit period. If a vessel that takes and retains pink shrimp also takes and retains groundfish in either the limited entry or another open access fishery during the same applicable cumulative trip limit period that it takes and retains pink shrimp (which may be 1 month or 2 months, depending on the fishery and the time of year), the vessel may retain the larger of the two limits, but only if the limit(s) for each gear or fishery are not exceeded when operating in that fishery or with that gear. The limits are not additive; the vessel may not retain a separate trip limit for each fishery. (The provisions at IV.A.(11) do not apply.)

* * * * *

Classification

These actions are authorized by the regulations implementing the FMP, and are based on the most recent data available. The aggregate data upon which these actions are based are available for public inspection at the office of the Administrator, Northwest Region, NMFS (see ADDRESSES) during business hours.

NMFS finds good cause to waive the requirement to provide prior notice and an opportunity for public comment on this action pursuant to 5 U.S.C. 553(b)(B), because providing prior notice and opportunity for comment would be impractical. It would be impractical because the pink shrimp fishery begins April 1, 2000, and affording additional notice and opportunity for public comment would impede the due and timely execution of the agency's function of managing fisheries to achieve OY.

NMFS also finds good cause to waive the 30-day delay in effectiveness pursuant to 5 U.S.C. 553(d)(3), because such a delay would be contrary to the public interest. This action should be implemented at the beginning of a cumulative trip limit period to avoid confusion and reduce the potential that fishers will exceed the appropriate limits. For these reasons good cause exists to waive the 30-day delay in effectiveness.

These actions are taken under the authority of 50 CFR 660.323(b)(1), and are exempt from review under E.O. 12866.

Authority: 16 U.S.C. 1801 et seq.

Dated: March 31, 2000.
Bruce C. Morehead,
Acting Director, Office of Sustainable Fisheries, National Marine Fisheries Service.

[FR Doc. 00-8376 Filed 3-31-00; 3:40 pm]

BILLING CODE 3510-22-F